DEPARTMENT OF COMMERCE

National Oceanic and Atmospheric Administration

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Alaska Community Quota Entity (CQE) Program.

OMB Control Number: 0648-0665.

Form Number(s): None.

Type of Request: Regular (extension of a currently approved information collection).

Number of Respondents: 65.

Average Hours Per Response: 200 hours, Application to become a CQE; 2 hours for Application to transfer QS-IFQ to or from CQE; 20 hours for Application for a CQE to receive a non-trawl LLP license; 1 hour each for Application for Community Charter Halibut Permit and CQE LLP Authorization Letter; 40 hours for CQE Annual Report.

Burden Hours: 1,544.

Needs and Uses: This request is for extension of a currently approved information collection.

The Alaska Community Quota Entity (CQE) Program allocates to eligible communities a portion of the quotas for groundfish, halibut, crab, and prohibited species in the Bering Sea and Aleutian Islands Management Area (BSAI). Currently, there are 98 CQE eligible communities (45 Individual Fishing Quota (IFQ) and quota share (QS) halibut and sablefish, 32 charter halibut, and 21 License Limitation Program (LLP) communities), although only a few communities are currently participating. The allocations provide communities the means for starting or supporting commercial fisheries business activities that will result in an ongoing, regionally based, fisheries-related economy. A non-profit corporate entity that meets specific criteria to receive transferred halibut or sablefish QS on behalf of an eligible community may lease the resulting IFQ to persons who are residents of the eligible community.

Affected Public: Not-for-profit institutions; individuals or households.

Frequency: Annually.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: January 19, 2016.
Sarah Brabson,
NOAA PRA Clearance Officer.

[FR Doc. 2016-01385 Filed 1-25-16; 8:45 am]

BILLING CODE 3510-22-P